DEPARTMENT OF LABOR

Employment and Training Administration

[TA-W-64,338]

Pine Island Sportswear, Ltd, Monroe, NC; Notice of Negative Determination Regarding Application for Reconsideration

By application dated January 7, 2009, a company official requested administrative reconsideration of the Department's negative determination regarding eligibility for workers and former workers of the subject firm to apply for Trade Adjustment Assistance (TAA) and Alternative Trade Adjustment Assistance (ATAA). The denial notice was signed on December 2, 2008 and published in the Federal Register on December 18, 2008 (73 FR 77068).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition filed on behalf of workers at Pine Island Sportswear, Ltd., Monroe, North Carolina was based on the finding that the worker group does not produce an article within the meaning of Section 222 of the Trade Act of 1974.

In the request for reconsideration, the petitioner stated that workers of the subject firm were previously certified eligible for Trade Adjustment Assistance. The petitioner further stated that even though production did not occur at the subject facility in the relevant period, workers of the subject firm “should not be denied the same rights as a production employee.” The petitioner appears to allege that because the subject firm once manufactured articles and was previously certified eligible for TAA, the workers of the subject firm should be granted another TAA certification.

The workers of Pine Island Sportswear, Ltd., Monroe, North Carolina were previously certified eligible for TAA under petition numbers TA-W-58,714, which expired on January 31, 2008. The investigation revealed that production at the subject firm ceased in February 2006.

When assessing eligibility for TAA, the Department exclusively considers production during the relevant time period (from one year prior to the date of the petition). Therefore, events occurring in 2006 are outside of the relevant period and are not considered in this investigation.

The investigation revealed that workers of the subject firm were engaged in work related to administrative and distribution during the relevant period. These functions, as described above, are not considered to be production of an article within the meaning of Section 222 of the Trade Act.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed at Washington, DC, this 14th day of January 2009.
Elliott S. Kushner,
Certifying Officer, Division of Trade Adjustment Assistance.

[FR Doc. E9-1495 Filed 1-23-09; 8:45 am]

BILLING CODE 4510-FN-P